DEPARTMENT OF ENERGY

Federal Energy Regulatory Commission

Combined Notice of Filings

Take notice that the Commission has received the following Natural Gas Pipeline Rate and Refund Report filings:

Filings Instituting Proceedings

Docket Number: PR18-26-000.

Applicants: Southern California Gas Company.

Description: Tariff filing per 284.123(b),(e)+(g): OSHD Rate Revision Filing to be effective 1/1/2018.

Filed Date: 1/30/18.

Accession Number: 201801305012.

Comments Due: 5 p.m. ET 2/20/18.

284.123(g) Protests Due: 5 p.m. ET 4/2/18.

Docket Number: PR17-60-001.

Applicants: Atmos Pipeline-Texas.

Description: Tariff filing per 284.123(b),(e)/: Amendment to Non Statutory Filing Jan 2018.

Filed Date: 1/25/18.

Accession Number: 201801255005.

Comments/Protests Due: 5 p.m. ET 2/15/18.

Docket Number: PR17-60-002.

Applicants: Atmos Pipeline-Texas.

Description: Tariff filing per 284.123(b),(e)/: Amendment to Non Statutory Filing Jan 2018 to be effective 9/1/2017.

Filed Date: 1/25/18.

Accession Number: 201801255165.

Comments/Protests Due: 5 p.m. ET 2/15/18.

Docket Numbers: RP18-374-000.

Applicants: Gulf South Pipeline Company, LP.

Description: Compliance filing Second Compliance Filing in Docket No. CP15-517-000 to be effective 2/1/2018.

Filed Date: 1/30/18.

Accession Number: 20180130-5009.

Comments Due: 5 p.m. ET 2/12/18.

Docket Numbers: RP18-375-000.

Applicants: Rockies Express Pipeline LLC.

Description: § 4(d) Rate Filing: Neg Rate 2018-01-30 Antero to be effective 2/1/2018.

Filed Date: 1/30/18.

Accession Number: 20180130-5155.

Comments Due: 5 p.m. ET 2/12/18.

Docket Numbers: RP18-376-000.

Applicants: Natural Gas Pipeline Company of America.

Description: § 4(d) Rate Filing: Amended Negotiated Rate Agreement-DTE Energy Trading, Inc. to be effective 2/1/2018.

Filed Date: 1/30/18.

Accession Number: 20180130-5220.

Comments Due: 5 p.m. ET 2/12/18.

Docket Numbers: RP18-377-000.

Applicants: Natural Gas Pipeline Company of America.

Description: § 4(d) Rate Filing: Amended Negotiated Rate Agreement-Oklahoma Natural Gas Company to be effective 2/1/2018.

Filed Date: 1/30/18.

Accession Number: 20180130-5221.

Comments Due: 5 p.m. ET 2/12/18.

Docket Numbers: RP18-378-000.

Applicants: Dominion Energy Carolina Gas Transmission.

Description: § 4(d) Rate Filing: DECG—Transco to Charleston Project (CP16-98) Transport Service & Neg Rates to be effective 3/1/2018.

Filed Date: 1/30/18.

Accession Number: 20180130-5238.

Comments Due: 5 p.m. ET 2/12/18.

Docket Numbers: RP18-379-000.

Applicants: Transcontinental Gas Pipe Line Company.

Description: § 4(d) Rate Filing: Negotiated Rates—Cherokee AGL—Replacement Shippers—Feb 2018 to be effective 2/1/2018.

Filed Date: 1/30/18.

Accession Number: 20180130-5274.

Comments Due: 5 p.m. ET 2/12/18.

Docket Numbers: RP18-380-000.

Applicants: Columbia Gulf Transmission, LLC.

Description: § 4(d) Rate Filing: CAP Neg Rate/NC Agmt Filing to be effective 3/1/2018.

Filed Date: 1/30/18.

Accession Number: 20180130-5282.

Comments Due: 5 p.m. ET 2/12/18.

Docket Numbers: RP18-381-000.

Applicants: Viking Gas Transmission Company.

Description: § 4(d) Rate Filing: Negotiated Rate PAL Agreement—Twin Eagle Resource Management to be effective 1/31/2018.

Filed Date: 1/30/18.

Accession Number: 20180130-5295.

Comments Due: 5 p.m. ET 2/12/18.

Docket Numbers: RP18-382-000.

Applicants: Natural Gas Pipeline Company of America.

Description: § 4(d) Rate Filing: Removal of Negotiated Rate Agreements City of Salem, IL to be effective 3/1/2018.

Filed Date: 1/30/18.

Accession Number: 20180130-5298.

Comments Due: 5 p.m. ET 2/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2018.
Nathaniel J. Davis, Sr.,
Deputy Secretary.

[FR Doc. 2018-02384 Filed 2-6-18; 8:45 am]

BILLING CODE 6717-01-P